DEPARTMENT OF VETERANS AFFAIRS

Notice of Intent To Adopt the Final Environmental Impact Statement/Final Environmental Impact Report, Supplemental Environmental Impact Statement, and Section 130(c) Technical Memorandum for the Westside Purple Line Extension Project

AGENCY: Department of Veterans Affairs (VA).

ACTION: Notice of Intent.

SUMMARY: VA announces its intent to adopt the following National Environmental Policy Act (NEPA) documents developed by the Federal Transit Administration and the Los Angeles County Metropolitan Transportation Authority (LA Metro) related to Westside Purple Line Extension Project: March 2012 Final Environmental Impact Statement/Final Environmental Impact Report (EIS/EIR), November 2017 Final Supplemental Environmental Impact Statement (SEIS), and the December 2018 Section 130(c) Technical Memorandum (“Purple Line NEPA Documents”). Pursuant to NEPA of 1969, as amended, and the Council on Environmental Quality's regulations for implementing the procedural provisions of NEPA, VA may adopt another Federal agency's NEPA documents if the proposed actions of each agency are substantially the same.

VA's Proposed Action is the granting of (i) surface level permanent easements comprised of approximately 2.19 acres; (ii) surface level temporary construction easements comprised of approximately 6.56 acres; and (iii) additional subsurface permanent and construction easements to LA Metro in conjunction with the Westwood/VA Hospital subway station which involves the construction, maintenance, repair, operation of a surface level and subsurface level transit facility, a subsurface level transit tunnel, entrances and other appurtenances including but not limited to tunnels, supports, rails, air circulation systems, air pressure relief systems and equipment, blast relief shafts, safety and emergency systems, electric transmission, and communication lines (the “Transit Facilities”). The Transit Facilities will be on the VA West Los Angeles Campus located at 11301 Wilshire Boulevard, Los Angeles, California 90073, adjacent to the Main Hospital (Building 500), as part of Section 3 of the Westside Purple Line Extension. VA has the authority to grant easements for the Transit Facilities pursuant to the West Los Angeles Leasing Act of 2016 (Pub. L. 114-226). The Purple Line NEPA documents evaluate the construction and operation of the Westside Purple Line Extension on the VA West Los Angeles Campus. After thorough review and consideration, VA has concluded that the Purple Line NEPA documents sufficiently identify and evaluate the environmental impacts related to its proposed action.

This Notice informs the reader of the availability of the Final Purple Line NEPA documents and of VA's intent to adopt the Purple Line NEPA documents for VA's proposed action. VA will publish a Record of Decision no sooner than 30 days after publication of the Environmental Protection Agency's Notice of Intent in the Federal Register.

Availability: Copies of the 2012 EIS/EIR, 2017 SEIS, and the Section 130(c) Technical Memorandum related to Westside Purple Line Extension are available for public review at:

• VA GLAHS WLA Medical Center: 11301 Wilshire Boulevard, Los Angeles, CA 90073, Building 500/Room 6429K; and

• On the website at www.losangeles.va.gov/masterplan/.

FOR FURTHER INFORMATION CONTACT: Glenn Elliott—Environmental Officer, Construction Facilities Management Office, Department of Veterans Affairs, 425 I Street NW, Washington, DC 20001; Glenn.Elliott@va.gov.

Signing Authority

The Secretary of Veterans Affairs approved this document and authorized the undersigned to sign and submit the document to the Office of the Federal Register for publication electronically as an official document of the Department of Veterans Affairs. Robert L. Wilkie, Secretary, Department of Veterans Affairs, approved this document on June 13, 2019, for publication.

Dated: June 18, 2019.
Jeffrey M. Martin,
Assistant Director, Office of Regulation Policy & Management, Office of the Secretary, Department of Veterans Affairs.

[FR Doc. 2019-13218 Filed 6-20-19; 8:45 am]

BILLING CODE 8320-01-P